DEPARTMENT OF HEALTH AND HUMAN SERVICES

Administration for Children and Families

[CFDA#93.598]

Notice; Grant Award Announcement

AGENCY: Office of Refugee Resettlement, Administration for Children and Families, HHS.

The Administration for Children and Families (ACF), U.S. Department of Health and Human Services (HHS) is awarding three grants for the purpose of implementing the Department's responsibilities under the President's Initiative on Human Trafficking.

Awards will be made for a twelve month grant period to:

The Bilateral Safety Corridor Coalition (BSCC) of San Diego, CA, in the amount of $476,000 for a project in Mexico;

World Vision of Washington, DC, in the amount of $497,983 for a project in Mexico;

World Vision of Washington, DC, in the amount of $497,983 for a project in Brazil.

The purpose of the grant to BSCC is to interdict the flow of victims or potential victims of human trafficking into the United States by undertaking educational activities and screening through health facilities in the vicinity of the border with the United States. The purpose of the grants to World Vision is to replicate in Mexico and Brazil their distinctive program to impede sex tourism, pioneered in Southeast Asia and Costa Rica. These grants are being awarded non-competitively pursuant to a Memorandum of Understanding (MOU) between ACF and the HHS Office of Global Health Affairs; the vetting of recipients occurred prior to the allocation of funding to the Department of Health and Human Services by the grants subcommittee, Senior Policy Operating Group on Human Trafficking.

BSCC is deemed to be the only organization which has the expertise and infrastructure to partner with HHS on this project along the US-Mexican border, by virtue of its extensive experience combating human trafficking, and its extensive institutional presence in that region. BSCC, a coalition of over 40 government and nonprofit agencies in the United States and Mexico, is the only bilateral project devoted to addressing the transient nature of human trafficking (anywhere in the world). BSCC will utilize its singular network of relationships with organizations in Mexican border communities to its implement this project, and will draw on its well-established public awareness and educational expertise, which focuses on “prevention” through community outreach to at-risk populations and groups, and “intervention” by educating and training legal and law enforcement personnel to locate and intervene in trafficking situations.

World Vision is deemed to be the only organization that has implemented a targeted international media campaign in partnership with travel and tourism companies and national governments targeting would-be sex tourists in destination countries with deterrent anti-trafficking messages. The project's ad campaign, designed to deter Americans who exploit children in the commercial sex trade overseas, now is placed in multiple media, including in-flight videos, billboards and street signs, printed ads in local tourist publications, and internet banner ads. World Vision has successfully implemented this anti-sex tourism project in Cambodia, Thailand and Costa Rica, drawing on its long-term presence on-the-ground in these countries, which helped it to establish extensive relationships with governments and local media companies. In addition to having the programmatic model for addressing sex tourism, World Vision is the only organization that possesses the capability and the institutional capacity to implement this same program simultaneously in Brazil and Mexico. World Vision has been operational in both countries for more than 40 years, and through this long-term presence on-the-ground, World Vision has established extensive relationships with governments and local media in these two countries as well. World Vision has the unique ability to effectively implement this program of its own design within in the very short time constraints of this project.

For more information regarding these awards, contact: Dr. Nguyen Van Hanh, Director, Office of Refugee Resettlement, Administration for Children and Families, 901 D Street, SW., 6th Floor East, Washington, DC 20447, (202) 401-9246.

Dated: May 17, 2005.
Nguyen Van Hanh,
Director, Office of Refugee Resettlement.

[FR Doc. 05-10179 Filed 5-20-05; 8:45 am]

BILLING CODE 4184-01-P